DEPARTMENT OF VETERANS AFFAIRS

Advisory Committee on Homeless Veterans, Notice of Meeting

The Department of Veterans Affairs (VA) gives notice under the Federal Advisory Committee Act that a meeting of the Advisory Committee on Homeless Veterans will be held April 11-12, 2018. The meeting sessions will take place at the Department of Veterans Affairs Central Office at 810 Vermont Avenue NW, Sonny Montgomery Conference Room 230, Washington, DC 20420. The meeting sessions are open to the public.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

On Wednesday, April 11 and Thursday, April 12, the Committee will convene an open session at the Department of Veterans Affairs Central Office at 810 Vermont Avenue NW, Sonny Montgomery Conference Room 230, Washington, DC 20420 from 8:00 a.m. to 5:00 p.m. The agenda will include briefings from officials at VA and other agencies regarding services for homeless Veterans. The Committee will also receive a briefing on the annual report that was developed after the last meeting of the Advisory Committee on Homeless Veterans and will then discuss topics for its upcoming annual report and recommendations to the Secretary of Veterans Affairs.

No time will be allocated at this meeting for receiving oral presentations from the public. Interested parties should provide written comments on issues affecting homeless Veterans for review by the Committee to Mr. Anthony Love, Designated Federal Officer, VHA Homeless Programs Office (10NC1), Department of Veterans Affairs, 811 Vermont Avenue NW, Washington, DC, or via email at Anthony.Love@va.gov.

Members of the public who wish to attend should contact Alexandra Logsdon and/or Anthony Love of the Veterans Health Administration, Homeless Programs Office no later than March 30, 2018, at Alexandra.Logsdon@va.gov (202)-632-7146 or Anthony.Love@va.gov (202) 461-1902 to provide their name, professional affiliation, address, and phone number. There will also be a call-in number at 1-800-767-1750; Access Code: 53308#. Attendees who require reasonable accommodation should state so in their requests. Please arrive to VA Central Office at least 20 minutes before the meeting start time to clear the building security checkpoint.

Dated: February 28, 2018.
Jelessa M. Burney,
Federal Advisory Committee Management Officer.

[FR Doc. 2018-04399 Filed 3-2-18; 8:45 am]

BILLING CODE 8320-01-P